DEPARTMENT OF COMMERCE

National Oceanic and Atmospheric Administration

RIN 0648-XC887

Fisheries of the Northeastern United States; Tilefish Fishery; 2014 Tilefish Fishing Quota Specification

AGENCY: National Marine Fisheries Service (NMFS), National Oceanic and Atmospheric Administration (NOAA), Commerce.

ACTION: Notice.

SUMMARY: NMFS announces that the overall annual tilefish quota for the 2014 fishing year (November 1, 2013-October 31, 2014) will remain the same as it was in fishing year 2013. NMFS is required to notify the public of the overall annual quota levels for tilefish if the previous year's quota specifications remain unchanged.

FOR FURTHER INFORMATION CONTACT: Jason Berthiaume, Fishery Management Specialist, (978) 281-9177; fax (978) 281-9135.

SUPPLEMENTARY INFORMATION: The tilefish regulations at § 648.292 specify that NMFS notify the public in the Federal Register of the overall annual quota levels for tilefish if the previous year's quota specifications remain unchanged. The tilefish total allowable landings (TAL) for the 2014 fishing year will remain the same as the fishing year 2013 TAL of 1.995 million lb (904,917 kg). Five percent of the TAL (99,750 lb (45,246 kg)) is allocated to incidental catch, leaving 1,895,250 lb (859,671 kg) allocated to Individual Fishing Quota (IFQ) holders.

Authority: 16 U.S.C. 1801 et seq.

Dated: October 23, 2013.
James P. Burgess,
Acting Deputy Director, Office of Sustainable Fisheries, National Marine Fisheries Service.

[FR Doc. 2013-25409 Filed 10-25-13; 8:45 am]

BILLING CODE 3510-22-P